DEPARTMENT OF HOMELAND SECURITY

Coast Guard

33 CFR Part 117

[Docket No. USCG-2014-0357]

Drawbridge Operation Regulation; Berwick Bay-Atchafalaya River, Morgan City, LA

AGENCY: Coast Guard, DHS.

ACTION: Notice of temporary deviation from regulations.

SUMMARY: The Commander, Eighth Coast Guard District, has issued a temporary deviation from the regulation governing the operation of the Morgan City Railroad Bridge across Berwick Bay—Atchafalaya River, mile 17.5 and the Gulf Intracoastal Waterway (Morgan City-Port Allen Alternate Route, mile 0.3) in Morgan City, St. Mary's Parish, Louisiana. This deviation provides for the bridge to remain closed to navigation for four consecutive hours with an opening to pass vessels in the middle for the purpose of conducting scheduled maintenance to the drawbridge.

DATES: This deviation is effective from 1 p.m. through 5 p.m. on June 12, 2014.

ADDRESSES: The docket for this deviation, [USCG-2014-0357] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Jim Wetherington, Bridge Administration Branch, Coast Guard, telephone (504) 671-2128, email james.r.wetherington@uscg.mil. If you have questions on viewing the docket, call Cheryl F. Collins, Program Manager, Docket Operations, telephone 202-366-9826.

SUPPLEMENTARY INFORMATION: The BNSF Railway Company requested a temporary deviation from the normal operation of the drawbridge in order to perform the installation of a new signaling system. These repairs are necessary for the continued operation of the bridge. This deviation allows the draw of the Morgan City Railroad Bridge across Berwick Bay—Atchafalaya River, mile 17.5 and the Gulf Intracoastal Waterway (Morgan City-Port Allen Alternate Route, mile 0.3), to remain closed to navigation for four consecutive hours between 1 p.m. and 5 p.m. on June 12, 2014 with an opening at 3 p.m. to pass any traffic stopped by the closure.

Broadcast Notice to Mariners will be used to update mariners of any changes in this deviation.

The bridge has a vertical clearance of 4 feet above high water in the closed-to-navigation position and 73 feet above high water in the open-to-navigation position. Navigation on the waterway consists of tugs with tows, oil industry related work boats and crew boats, commercial fishing vessels and some recreational craft. In accordance with 33 CFR 117.5, the draw of the bridge shall open on signal. The Morgan City-Port Allen Landside route through Amelia, LA is the alternate route.

BNSF and the Coast Guard have coordinated the closure with waterway users, industry, and other Coast Guard units. This date and this schedule were chosen to minimize the significant effects on vessel traffic.

In accordance with 33 CFR 117.35(e), the drawbridges must return to their regular operating schedules immediately at the end of the effective period of this temporary deviation. This deviation from the operating regulations is authorized under 33 CFR 117.35.

Dated: May 16, 2014.
David M. Frank,
Bridge Administrator.

[FR Doc. 2014-12385 Filed 5-28-14; 8:45 am]

BILLING CODE 9110-04-P